FEDERAL COMMUNICATIONS COMMISSION

[OMB 3060-1034; FRS 17420]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it can further reduce the information collection burden for small business concerns with fewer than 25 employees.

DATES: Written comments and recommendations for the proposed information collection should be submitted on or before March 12, 2021.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Cathy Williams, FCC, via email to PRA@fcc.gov and to Cathy.Williams@fcc.gov. Include in the comments the OMB control number as shown in the SUPPLEMENTARY INFORMATION below.

FOR FURTHER INFORMATION CONTACT: For additional information or copies of the information collection, contact Cathy Williams at (202) 418-2918. To view a copy of this information collection request (ICR) submitted to OMB: (1) Go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: The Commission may not conduct or sponsor a collection of information unless it displays a currently valid Office of Management and Budget (OMB) control number. No person shall be subject to any penalty for failing to comply with a collection of information subject to the PRA that does not display a valid OMB control number.

As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-1034.

Title: Digital Audio Broadcasting Systems and their Impact on the Terrestrial Radio Broadcast Service; Digital Notification, FCC Form 335.

Form Number: FCC Form 335.

Type of Review: Revision of a currently approved collection.

Respondents: Business or other for-profit entities.

Number of Respondents and Responses: 270 respondents; 270 responses.

Estimated Hours per Response: 1 hour-8 hours.

Frequency of Response: On occasion reporting requirement.

Total Annual Burden: 490 hours.

Total Annual Cost: $197,000.

Obligation to Respond: Required to obtain or retain benefits. The statutory authority for this collection of information is contained in Sections 154(i), 303, 310, and 553 of the Communications Act of 1934, as amended.

Nature and Extent of Confidentiality: There is no need for confidentiality with this collection of information.

Privacy Act Impact Assessment: No impact(s).

Needs and Uses: On October 27, 2020, the Commission released the All-Digital AM Broadcasting Report and Order, FCC 20-154, MB Dkts. 19-311, 13-249, where it adopts rules to allow AM radio stations, on a voluntary basis, to broadcast an all-digital signal using the HD radio in-band on-channel (IBOC) mode name MA3. This action benefits AM stations and their listeners by improving reception quality and listenable signal coverage in stations' service areas and by advancing the Commission's goal of improving the AM service, thereby helping to ensure the future of the service. AM broadcast station licensees are required to notify the Commission of a change to all-digital operations using Digital Notification Form, FCC Form 335-AM.

Specifically pertaining to this Information Collection, in the All-Digital AM Broadcasting Report and Order, the Commission requires AM broadcast stations to electronically file a digital notification using the existing FCC Form 335-AM Digital Notification (or any successor notification form) to notify the Commission of the following changes: (1) The commencement of new all-digital operation; (2) an increase in nominal power of an all-digital AM station; or (3) a transition from core-only to enhanced operating mode. Although we direct broadcasters to use the current Form 335-AM for all-digital notifications, additional information is required for notification of AM all-digital operations specifically. Therefore, until the Form 335-AM is updated to display the new all-digital operation requirements, we direct filers to select “N/A” as appropriate within the form and submit an attachment containing the following information. These new all-digital AM notification requirements have been added to new section 73.406 of the Commission's rules.

(a) The type of notification (all-digital notification, increase in nominal power, reduction in nominal power, transition from core-only to enhanced, transition from enhanced to core-only, reversion from all-digital to hybrid or analog operation);

(b) the date that new or modified all-digital operation will commence or has ceased;

(c) a certification that the all-digital operations will conform to the relevant nominal power and spectral emissions limits;

(d) the nominal power of the all-digital station;

(e) a certification that the all-digital station complies with all EAS requirements; and

(f) if a notification of commencement of new all-digital service or a nominal power change, whether the station is operating in core-only or enhanced mode.

The All-Digital AM Broadcasting Report and Order also revises and reorganizes the digital notification requirements formally contained in section 73.404(e) of the rules by removing paragraph 73.404(e) and adding new section 73.406 Notification.

The Notification Requirements Contained Under 47 CFR 73.406 Are as Follows

Hybrid AM and FM licensees must electronically file a digital notification to the Commission in Washington, DC, within 10 days of commencing IBOC digital operation. All-digital licensees must file a digital notification within 10 days of the following changes: (1) Any reduction in nominal power of an all-digital AM station; (2) a transition from enhanced to core-only operating mode; or (3) a reversion from all-digital to hybrid or analog operation. All-digital licensees will not be permitted to commence operation sooner than 30 calendar days from public notice of digital notification of the following changes: (1) The commencement of new all-digital operation; (2) an increase in nominal power of an all-digital AM station; or (2) a transition from core-only to enhanced operating mode.

(a) Every digital notification must include the following information:

(1) The call sign and facility identification number of the station;

(2) If applicable, the date on which the new or modified IBOC operation commenced or ceased;

(3) The name and telephone number of a technical representative the Commission can call in the event of interference;

(4) A certification that the operation will not cause human exposure to levels of radio frequency radiation in excess of the limits specified in § 1.1310 of this chapter and is therefore categorically excluded from environmental processing pursuant to § 1.1306(b) of this chapter. Any station that cannot certify compliance must submit an environmental assessment (“EA”) pursuant to § 1.1311 of this chapter and may not commence IBOC operation until such EA is ruled upon by the Commission.

(b) Each AM digital notification must also include the following information:

(1) A certification that the IBOC DAB facilities conform to applicable nominal power limits and emissions mask limits;

(2) The nominal power of the station; if separate analog and digital transmitters are used, the nominal power for each transmitter;

(3) If applicable, the amount of any reduction in an AM station's digital carriers;

(4) For all-digital stations, the type of notification (all-digital notification, increase in nominal power, reduction in nominal power, transition from core-only to enhanced, transition from enhanced to core-only, reversion from all-digital to hybrid or analog operation);

(5) For all-digital stations, if a notification of commencement of new all-digital service or a nominal power change, whether the station is operating in core-only or enhanced mode; and

(6) For all-digital stations, a certification that the all-digital station complies with all EAS requirements.

(c) Each FM digital notification must also include the following information:

(1) A certification that the IBOC DAB facilities conform to the HD Radio emissions mask limits;

(2) FM digital effective radiated power used and certification that the FM analog effective radiated power remains as authorized;

(3) If applicable, the geographic coordinates, elevation data, and license file number of the auxiliary antenna employed by an FM station as a separate digital antenna; and

(4) If applicable, for FM systems employing interleaved antenna bays, a certification that adequate filtering and/or isolation equipment has been installed to prevent spurious emissions in excess of the limits specified in § 73.317.

Federal Communications Commission.
Marlene Dortch,
Secretary, Office of the Secretary.

[FR Doc. 2021-02679 Filed 2-9-21; 8:45 am]

BILLING CODE 6712-01-P